LEGAL SERVICES CORPORATION

Sunshine Act Meeting: Board of Directors and Its Six Committees

FEDERAL REGISTER CITATION OF PREVIOUS ANNOUNCEMENT: 87 FR 2938.

PREVIOUSLY ANNOUNCED TIME AND DATE OF THE MEETING: January 27-28, 2022. On Thursday, January 27, the first Committee meeting will begin at 11:00 a.m. Eastern Standard Time (EST), with the next meeting commencing promptly upon adjournment of the immediately preceding meeting. On Friday, January 28, the first Committee meeting will begin at 12:00 p.m. EST, with the next meeting commencing promptly upon adjournment of the immediately preceding meeting.

CHANGES IN THE MEETING: The Legal Services Corporation (LSC) is revising the order of Committee meetings taking place on January 27, 2022. LSC also is issuing a correction to the start time of the meeting on January 28, 2022. All other items remain the same. This change is effective January 20, 2022. The updated meeting schedule is as follows:

Meeting Schedule
| Start time (all EST)
Thursday, January 27, 2022:
Operations and Regulations Committee Meeting | 11:00 a.m.
Finance Committee Meeting
Governance and Performance Review Committee Meeting
Audit Committee Meeting
Friday, January 28, 2022:
Institutional Advancement (IAC) Committee | 12:30 p.m.
Institutional Advancement (IAC) Communications Subcommittee Meeting
Delivery of Legal Services Committee Meeting
Open Board Meeting
Closed Board Meeting

CONTACT PERSON FOR MORE INFORMATION: Jessica Wechter, Special Assistant to the President, at (202) 295-1626. Questions may also be sent by electronic mail to wechterj@lsc.gov.

Dated: January 20, 2022.
Jessica L. Wechter,
Special Assistant to the President, Legal Services Corporation.

[FR Doc. 2022-01476 Filed 1-21-22; 11:15 am]

BILLING CODE 7050-01-P